FEDERAL MARITIME COMMISSION

46 CFR Part 530

[Petition No. P3-18]

Petition of the World Shipping Council for an Exemption From Certain Provisions of the Shipping Act of 1984, as Amended, and for a Rulemaking Proceeding; Notice of Filing and Request for Comments

Notice is hereby given that the World Shipping Council (“Petitioner”) has petitioned the Commission pursuant to 46 CFR 502.92 “. . . for an exemption from the service contract filing and essential terms publication requirements set forth at 46 U.S.C. 40502(b) and (d), respectively . . .” Petitioner “. . . further petitions the Commission for the initiation of a rulemaking proceeding to amend its service contract regulations set forth at 46 CFR part 530 in a manner consistent with the requested exemption.” Petitioner alleges that “[t]he filing of service contracts and amendments, and the publication of essential terms, represent a substantial administrative and regulatory burden” to its “ocean common carrier members.”

In order for the Commission to make a thorough evaluation of the requested exemption and rulemaking presented in the Petition, pursuant to 46 CFR 502.92, interested parties are requested to submit views or arguments in reply to the Petition no later than November 19, 2018. Replies shall be sent to the Secretary by email to Secretary@fmc.gov or by mail to Federal Maritime Commission, 800 North Capitol Street NW, Washington, DC 20573-0001, and replies shall be served on Petitioner's counsel, Wayne R. Rhode, Cozen O' Connor, 1200 19th St. NW, Suite 300, Washington, DC 20036, wrohde@cozen.com.

Non-confidential filings may be submitted in hard copy to the Secretary at the above address or by email as a PDF attachment to Secretary@fmc.gov and include in the subject line: P3-18 (Commenter/Company). Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” Public versions of confidential filings may be submitted by email. The Petition will be posted on the Commission's website at http://www.fmc.gov/P3-18. Replies filed in response to the Petition will also be posted on the Commission's website at this location.

Rachel E. Dickon,
Secretary.

[FR Doc. 2018-20167 Filed 9-17-18; 8:45 am]

BILLING CODE 6731-AA-P